DEPARTMENT OF ENERGY

Federal Energy Regulatory Commission

Combined Notice of Filings

Take notice that the Commission has received the following Natural Gas Pipeline Rate and Refund Report filings:

Filings Instituting Proceedings

Docket Numbers: RP13-765-000.

Applicants: CenterPoint Energy—Mississippi River T.

Description: Negotiated Rate Filing for CES #5375 for 4/1/13 to be effective 4/1/2013.

Filed Date: 4/1/13.

Accession Number: 20130401-5094.

Comments Due: 5 p.m. ET 4/15/13.

Docket Numbers: RP13-766-000.

Applicants: Iroquois Gas Transmission System, L.P.

Description: 04/01/13 Negotiated Rates—Conoco Phillips (RTS) 3015-26 & 27 to be effective 4/1/2013.

Filed Date: 4/1/13.

Accession Number: 20130401-5096.

Comments Due: 5 p.m. ET 4/15/13.

Docket Numbers: RP13-767-000.

Applicants: Columbia Gas Transmission, LLC.

Description: OTRA—April 2013 to be effective 5/1/2013.

Filed Date: 4/1/13.

Accession Number: 20130401-5109.

Comments Due: 5 p.m. ET 4/15/13.

Docket Numbers: RP13-768-000.

Applicants: Gulf South Pipeline Company, LP.

Description: Cap Rel Neg Rate Agmt (HK 37731 to BP 40762) to be effective 4/1/2013.

Filed Date: 4/1/13.

Accession Number: 20130401-5124.

Comments Due: 5 p.m. ET 4/15/13.

Docket Numbers: RP13-769-000.

Applicants: Gulf South Pipeline Company, LP.

Description: Cap Rel Neg Rate Agmt (HK 37731, 37733 to Texla 40766, 40768) to be effective 4/1/2013.

Filed Date: 4/1/13.

Accession Number: 20130401-5127.

Comments Due: 5 p.m. ET 4/15/13.

Docket Numbers: RP13-770-000.

Applicants: Gulf South Pipeline Company, LP.

Description: Cap Rel Neg Rate Agmt Filing (HK 37731 to Sequent 40767) to be effective 4/1/2013.

Filed Date: 4/1/13.

Accession Number: 20130401-5131.

Comments Due: 5 p.m. ET 4/15/13.

Docket Numbers: RP13-771-000.

Applicants: CenterPoint Energy Gas Transmission Comp.

Description: CenterPoint Energy Gas Transmission Company, LLC submits tariff filing per 154.204: CEGT LLC—2013—Negotiated Rate Filing—April to be effective 4/1/2013.

Filed Date: 4/1/13.

Accession Number: 20130401-5192.

Comments Due: 5 p.m. ET 4/15/13.

Docket Numbers: RP13-772-000.

Applicants: Iroquois Gas Transmission System, L.P.

Description: 04/01/13 Negotiated Rates—Emera Energy Services, Inc (RTS) 2715-07 & 08 to be effective 4/1/2013.

Filed Date: 4/1/13.

Accession Number: 20130401-5195.

Comments Due: 5 p.m. ET 4/15/13.

Docket Numbers: RP13-773-000.

Applicants: Hardy Storage Company, LLC.

Description: RAM 2013 to be effective 5/1/2013.

Filed Date: 4/1/13.

Accession Number: 20130401-5236.

Comments Due: 5 p.m. ET 4/15/13.

Docket Numbers: RP13-774-000.

Applicants: Texas Eastern Transmission, LP.

Description: Negotiated Rate Filing Chesapeake to be effective 4/1/2013.

Filed Date: 4/1/13.

Accession Number: 20130401-5253.

Comments Due: 5 p.m. ET 4/15/13.

Docket Numbers: RP13-775-000.

Applicants: Algonquin Gas Transmission, LLC.

Description: ConEd April 2013 Release 510371 to be effective 4/1/2013.

Filed Date: 4/1/13.

Accession Number: 20130401-5270.

Comments Due: 5 p.m. ET 4/15/13.

Docket Numbers: RP13-776-000.

Applicants: Algonquin Gas Transmission, LLC.

Description: Algonquin Gas Transmission, LLC submits tariff filing per 154.204: VPEM 510295 Permanent Capacity Release to be effective 4/1/2013.

Filed Date: 4/1/13.

Accession Number: 20130401-5310.

Comments Due: 5 p.m. ET 4/15/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-527-002.

Applicants: Boardwalk Storage Company, LLC.

Description: Correction to correction compliance filing in Docket No. RP13-527-001 to be effective 3/3/2013.

Filed Date: 4/1/13.

Accession Number: 20130401-5186.

Comments Due: 5 p.m. ET 4/15/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 2, 2013.
Nathaniel J. Davis, Sr.,
Deputy Secretary.

[FR Doc. 2013-08104 Filed 4-5-13; 8:45 am]

BILLING CODE 6717-01-P